DEPARTMENT OF ENERGY

Federal Energy Regulatory Commission

[Project No. 11831-095]

Notice of Availability of Environmental Assessment; Wisconsin Electric Power Company

In accordance with the National Environmental Policy Act of 1969 and the Federal Energy Regulatory Commission's (Commission) regulations, 18 Code of Federal Regulations Part 380, Commission staff has reviewed the application for amendment of license for the Twin Falls Hydroelectric Project (FERC Project No. 11831) and has prepared an environmental assessment (EA) in cooperation with the U.S. Army Corps of Engineers. The project is located on the Menominee River near Iron Mountain, in Iron and Dickinson counties, Michigan, and Florence County, Wisconsin.

The EA contains the Commission staff's analysis of the potential environmental effects of decommissioning an existing powerhouse, constructing a new powerhouse and spillway, and making structural improvements to the dam, and concludes that authorizing the amendment, with appropriate environmental protective measures, would not constitute a major federal action that would significantly affect the quality of the human environment.

A copy of the EA is available for review at the Commission in the Public Reference Room or may be viewed on the Commission's Web site at www.ferc.gov using the “eLibrary” link. Enter the docket number excluding the last three digits in the docket number field to access the document. For assistance, contact FERC Online Support at FERCOnlineSupport@ferc.gov or toll-free at 1-866-208-3676, or for TTY, 202-502-8659.

For further information, contact Steven Sachs by telephone at 202-502-8666 or by email at Steven.Sachs@ferc.gov.

Dated: June 28, 2013.
Kimberly D. Bose,
Secretary.

[FR Doc. 2013-16321 Filed 7-8-13; 8:45 am]

BILLING CODE 6717-01-P